DEPARTMENT OF AGRICULTURE

Agricultural Marketing Service

[Doc. No. AMS-NOP-22-0030]

National Organic Standards Board: Call for Nominations

AGENCY: Agricultural Marketing Service, USDA.

ACTION: Notice: call for nominations.

SUMMARY: The National Organic Standards Board was established to assist in the development of standards for substances to be used in organic production and to advise the Secretary on the implementation of the Organic Foods Production Act of 1990. Through this Notice, the Agricultural Marketing Service (AMS) is announcing its call for nominations to fill one vacancy. A description of the position is listed below under SUPPLEMENTARY INFORMATION. Appointees will serve a five-year term beginning 2023 and ending 2028. Additionally, AMS seeks nominations for a pool of candidates that the Secretary of Agriculture can draw upon as replacement appointees if unexpected vacancies occur.

DATES: Written nominations must be received by mail or postmarked on or before August 5, 2022.

ADDRESSES: Applications can be sent via email to Michelle Arsenault at Michelle.Arsenault@usda.gov, or mailed to USDA-AMS-NO P, 1400 Independence Avenue SW, Room 2642-S, Ag Stop 0268, Washington, DC 20250-0268. Electronic submittals are preferred.

FOR FURTHER INFORMATION CONTACT: Michelle Arsenault, Advisory Committee Specialist, National Organic Standards Board, USDA-AMS-NOP, 1400 Independence Avenue SW, Room 2642-S, STOP 0268, Washington, DC 20250-0268; Phone: (202) 997-0115; Email: Michelle.Arsenault@usda.gov.

SUPPLEMENTARY INFORMATION: The Organic Foods Production Act of 1990 (OFPA), as amended (7 U.S.C. 6501-6524), requires the Secretary of Agriculture (Secretary) to establish the National Organic Standards Board (NOSB) in accordance with the Federal Advisory Committee Act, as amended. The NOSB is composed of 15 members: four individuals who own or operate an organic farming operation, or employees of such individuals; two individuals who own or operate an organic handling operation, or employees of such individuals; one individual who owns or operates a retail establishment with significant trade in organic products, or employees of such individuals; three individuals with expertise in areas of environmental protection and resource conservation; three individuals who represent public interest or consumer interest groups; one individual with expertise in the fields of toxicology, ecology, or biochemistry; and one individual who is a certifying agent.

Through this Notice, AMS seeks to fill the following one position: one individual with expertise in areas of environmental protection and resource conservation. Per the OFPA, individuals seeking appointment to the NOSB must meet the definition of the position that they seek as identified under 7 U.S.C. 6518, as well as satisfy the selection criteria for an NOSB member. Selection criteria include the following: an understanding of organic principles and practical experience in the organic community; demonstrated experience and interest in organic production and organic certification; demonstrated experience with respect to agricultural products produced and handled on certified organic farms; a commitment to the integrity of the organic food and fiber industry; demonstrated experience in the development of public policy such as participation on public or private advisory boards, boards of directors, or other comparable organizations; support of consumer and public interest organizations; participation in standards development or involvement in educational outreach activities; the ability to evaluate technical information and to fully participate in NOSB deliberation and recommendations; the willingness to commit the time and energy necessary to assume NOSB duties; and other such factors as may be appropriate for specific positions. More information can be found on the NOSB web page: https://www.ams.usda.gov/rules-regulations/organic/nosb/nomination-process.

The appointee will serve a five-year term beginning in 2023.

To nominate yourself or someone else, please submit the following: a resume (required); Form AD-755 (required), which can be accessed at: https://www.usda.gov/sites/default/files/documents/ad-755.pdf; a cover letter (optional); and letters of recommendation (optional). Resumes should be no longer than five (5) pages and should include the following information: the position for which you are applying; current and past organization affiliations; areas of expertise; education; career positions held; and any other notable positions held. Previous applicants who wish to be considered must reapply.

If AMS receives a request under the Freedom of Information Act (5 U.S.C. 552) for records relating to NOSB nominations, application materials may be released to the requester. Prior to the release of the information, personally identifiable information protected by the Privacy Act (5 U.S.C. 552) will be redacted.

AMS encourages submissions from qualified applicants, regardless of race, color, age, sex, sexual orientation, gender identity, national origin, religion, disability status, protected veteran status, or any other characteristic protected by law. AMS encourages submissions from traditionally underrepresented individuals, organizations, and businesses to reflect the diversity of this industry.

AMS policy is that diversity of the boards should reflect the diversity of its industries in terms of the experience of members, methods of production and distribution, marketing strategies, and other distinguishing factors, including but not limited individuals from historically underserved communities, that will bring different perspectives and ideas to the table. AMS plans to conduct extensive outreach, paying particular attention to reaching underserved communities, and plans to consider the diversity of the population served and the knowledge, skills, and abilities of the members to serve a diverse population.

The information collection requirements concerning the nomination process have been previously cleared by the Office of Management and Budget (OMB) under OMB Control No. 0505-0001.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to the Committee. To ensure that the recommendations of the Committee have taken in account the needs of the diverse groups served by USDA, membership shall include to the extent possible, individuals with demonstrated ability to represent minorities, women and person with disabilities. USDA is an equal opportunity provider, employer, and lender.

Dated: June 1, 2022.
Cikena Reid,
USDA Committee Management Officer.

[FR Doc. 2022-12059 Filed 6-3-22; 8:45 am]

BILLING CODE P